DEPARTMENT OF THE TREASURY

Office of the Comptroller of the Currency

[Docket No. 03-13]

Strategic Plan

AGENCY: Office of the Comptroller of the Currency, Treasury.

ACTION: Notice and request for comment.

SUMMARY: The Office of the Comptroller of the Currency (OCC) hereby gives notice that a draft of its Fiscal Year 2003-2008 Strategic Plan is available at http://www.occ.treas.gov/spln2003.pdf. Certain high level aspects of this strategic plan have been summarized in the draft strategic plan of the Department of Treasury, in compliance with the Government Performance and Results Act. Copies of the OCC draft strategic plan have also been submitted to committees of Congress for consultation purposes. This OCC draft strategic plan will help guide the operations of OCC, and may be revised through the annual performance plans sent to Congress.

DATES: Comments must be received on or before August 15, 2003.

ADDRESSES: Written comments should be sent to the Office of the Comptroller of the Currency, Public Information Room, Mailstop 1-5, 250 E Street, SW., Attention: Docket 03-13, Washington, DC 20219. Due to delays in paper mail delivery in the Washington area, commenters are encouraged to submit comments by fax or e-mail when possible. Comments may be sent by fax to (202) 874-4448, or by e-mail to regs.comments@occ.treas.gov. Comments may be inspected and photocopied at the OCC's Public Information Room. You may make an appointment to inspect comments by calling (202) 874-5043.

FOR FURTHER INFORMATION CONTACT: Susan Chew, Financial Management Division, Office of the Comptroller of the Currency, (202) 874-4765.

Dated: July 11, 2003.
Paul R. Gentille,
Deputy Chief Financial Officer, Office of the Comptroller of the Currency.

[FR Doc. 03-18768 Filed 7-31-03; 8:45 am]

BILLING CODE 4810-33-P